FEDERAL COMMUNICATIONS COMMISSION

Notice of Public Information Collection(s) Being Reviewed by the Federal Communications Commission, Comments Requested

May 6, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 15, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW, Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-0704.

Title: Policy and Rules Concerning the Interstate, Interexchange Marketplace; Implementation of Section 254(g) of the Communications Act of 1934, as amended, CC Docket No. 96-61.

Form No.: N/A.

Type of Review: Extension of a currently approved collection.

Respondents: Business or other for-profit.

Number of Respondents: 519.

Estimated Time Per Response: 306.23 hours per response (avg). Range: .50 hours to 120 hours.

Frequency of Response: Recordkeeping requirement; annual and on occasion reporting requirements, third party disclosure requirement.

Total Annual Burden: 158,935 hours.

Total Annual Cost: $435,000.

Needs and Uses: In the Second Order on Reconsideration issued in CC Docket No. 96-61, the Commission reinstated the public disclosure requirement and also requires that nondominant interexchange carriers that have Internet websites pass this information on-line in a timely and easily accessible manner. See 47 CFR 42.10. These carriers also continue to be required to file annual certifications pursuant to section 254(g); maintain price and service information; and are forborne from filing certain tariffs. The information is collected under the information disclosure requirement and the Internet posting requirement must be disclosed to the public to ensure that consumers have access to the information they need to select a telecommunications carrier and to bring to the Commission's attention possible violations of the Communications Act without a specific public disclosure requirement. The other information will be used to ensure that affected interexchange carriers fulfill their obligations under the Communications Act of 1934, as amended.

OMB Control No.: 3060-0760.

Title: Access Charge Reform—CC Docket No. 96-262, First Report and Order, Second Order on Reconsideration and Memorandum Opinion and Order, Third Report and Order, and Fifth Report and Order.

Form No.: N/A.

Type of Review: Extension of a currently approved collection.

Respondents: Business or other for-profit.

Number of Respondents: 14.

Estimated Time Per Response: 4,165.64 hours per response (avg). Range: 3-2,117 hours.

Frequency of Response: On occasion reporting requirement, third party disclosure requirement.

Total Annual Burden: 58,319 hours.

Total Annual Cost: $23,000.

Needs and Uses: The Commission provides detailed rules for implementing the market-based approach, pursuant to which price cap local exchange carriers (LECs) would receive pricing flexibility in the provision of interstate access services as competition for those services develops. The Commission grants immediate pricing flexibility to price cap LECs in the form of streamlined introduction of new services, geographic de-averaging of rates for services in the trunking basket, and removal of certain interstate interexchange services from price cap regulation and provides for additional pricing flexibility upon showings. Some of the required information showings are as follows: showings under market-based approach (to obtain Phase I relief, price cap LECs must demonstrate that competitors have made irreversible, sunk investments in the facilities needed to provide the services at issue); cost study of interstate access service that remain subject to price cap regulation; tariff filings; third party disclosure (LECs were required to provide IXCs with customer-specific information about how many and what type of presubscribed interexchange carrier charges (PICCs) they are assessing for each of the IXCs presubscribed customers). The information is used in determining whether the incumbent LECs should receive the regulatory relief requested.

OMB Control No.: 3060-0770.

Title: Price Cap Performance Review for Local Exchange Carriers—CC Docket No. 94-1 (New Services).

Form No.: N/A.

Type of Review: Extension of a currently approved collection.

Respondents: Business or other for-profit.

Number of Respondents: 13 respondents; 26 responses.

Estimated Time Per Response: 10 hours per response (avg).

Frequency of Response: On occasion reporting requirement.

Total Annual Burden: 130 hours.

Total Annual Cost: N/A.

Needs and Uses: In the Fifth Report and Order issued in CC Docket Nos. 96-262, 94-1, 98-157, released August 27, 1999, the Commission permits price cap LECs to introduce new services on a streamlined basis, without prior approval. The Commission modified the rules to eliminate the public interest showing required by 47 CFR Section 69.4(g) and to eliminate the new services text (except in the case of loop-based new services) required under 47 CFR Sections 61.49(f) and (g). Each tariff filing submitted by a price cap LEC that introduces a new loop-based service must be accompanied by cost data sufficient to establish that the new loop-based services or unbundled BSE will not recover more than a just and reasonable portion of the carrier's overhead costs. Each tariff filing submitted by a LEC subject to price cap regulation that introduces a new loop-based service or a restructured unbundled basic service element must be accompanied by, among other things, a study containing a projection of costs for a representative 12 month period. See 47 CFR 61.49. The information is needed by the Commission to carry out its statutory mandate.

OMB Control No.: 3060-0793.

Title: Procedures for States Regarding Lifeline Consents, Adoption of Intrastate Discount Matrix for Schools and Libraries, and Designation of Eligible Telecommunications Carriers.

Form No.: N/A.

Type of Review: Extension of a currently approved collection.

Respondents: Business or other for-profit, state, local or tribal government.

Number of Respondents: 260.

Estimated Time Per Response: .60 hours per response (avg). Range: .50 hours to 1 hour.

Frequency of Response: Annual and on occasion reporting requirements, third party disclosure requirement.

Total Annual Burden: 155 hours.

Total Annual Cost: N/A.

Needs and Uses: In the Universal Service Order, the Commission determined that rural and non-rural carriers will receive federal universal service support determined separate mechanisms. The Commission determined that local exchange carriers (LECs) should self-certify their status as a rural company each year to the Commission and their state commission. Carriers who serve fewer than 100,000 access lines do not have to file the annual rural certification letter unless their status has changed since their last filing. For carriers with more than 100,000 access lines, that seek rural status, must file rural self-certifications and such carriers also are required to file only in the event of a change in their status. States must submit a list of carriers designed as eligible telecommunications carriers and the service areas such as non-rural carriers are required to serve to the Universal Service Administrator and the Commission. If a LECs status as a rural telephone company changes to that it becomes ineligible for certification as a rural carrier, that carrier must inform the Commission and the Universal Service Administrator within one month of the change in status. All of the requirements are necessary to implement the congressional mandate for universal service. The reporting requirements are necessary to verify that particular carriers and other respondents are eligible to receive universal service support.

OMB Control No.: 3060-XXXX.

Title: Ultra Wideband Transmission Systems Operating under Part 15 (ET Docket No. 98-153).

Form No.: N/A.

Type of Review: New collection.

Respondents: Business or other for-profit.

Number of Respondents: 500.

Estimated Time Per Response: 2 hours.

Frequency of Response: On occasion reporting requirement.

Total Annual Burden: 1,000 hours.

Total Annual Cost: $12,500.

Needs and Uses: The information will be used to coordinate the operation of the Ultra Wideband (UWB) transmission systems in order to avoid interference with sensitive U.S. government radio systems. Initial operation in a particular area may not commence until authorization has been received from the Commission. The UWB operators will be required to provide the name, address, and other pertinent contact information of the user, the desired geographical area of operation, the FCC ID number, time period during which operations will take place, and other nomenclature of the UWB device. This information will be collected by the Commission and forwarded to the National Telecommunications and Information Administration (NTIA under the U.S. Department of Commerce). This information collection is essential to control potential interference to Federal radio communications.

Federal Communications Commission.
Marlene H. Dortch,
Secretary.

[FR Doc. 02-12060 Filed 5-14-02; 8:45 am]

BILLING CODE 6712-01-P